DEPARTMENT OF TRANSPORTATION

Federal Aviation Administration

Notice of Acceptance of a Noise Exposure Map and Review of a Noise Compatibility Program

AGENCY: Federal Aviation Administration, DOT.

SUMMARY: The Federal Aviation Administration (FAA) announces its determination that the noise exposure map submitted by the Port Authority of New York and New Jersey for LaGuardia Airport is in compliance with applicable statutory and regulatory requirements, see SUPPLEMENTARY INFORMATION for details. Further, in conjunction with the noise exposure map, FAA is reviewing the proposed noise compatibility program for LaGuardia Airport, which the FAA will approve or disapprove on or before January 2, 2023. This notice also announces the availability of this noise compatibility program for public review and comment.

DATES: The effective date of the FAA's determination on the noise exposure map is June 16, 2022 and of the start of its review of the associated noise compatibility program is July 6, 2022. The public comment period ends September 4, 2022.

FOR FURTHER INFORMATION CONTACT: Andrew Brooks, Regional Environmental Program Manager, Airports Division, Federal Aviation Administration, 1 Aviation Plaza, Room 516, Jamaica, NY 11434. Phone Number: 718-553-2511. Comments on the proposed noise compatibility program should also be submitted to the above office.

SUPPLEMENTARY INFORMATION: This notice announces that the FAA finds that the revised 2021 noise exposure map (NEM) submitted for LaGuardia Airport is in compliance with applicable requirements of Title 14, Code of Federal Regulations (CFR) part 150, (14 CFR part 150) effective June 16, 2022. Further, FAA is reviewing a proposed noise compatibility program (NCP) for LaGuardia Airport which will be approved or disapproved on or before January 2, 2023. This notice also announces the availability of this program for public review and comment. Per the Aviation Safety and Noise Abatement Act of 1979, hereinafter referred to as “the Act” (also see 49 U.S.C. 47503), an airport operator may submit to the FAA NEMs which meet applicable regulations and which depict non-compatible land uses as of the date of submission of such maps, a description of projected aircraft operations, and the ways in which such operations will affect such maps. The Act requires such maps to be developed in consultation with interested and affected parties in the local community, government agencies, and persons using the airport.

An airport operator who has submitted NEMs that are found by FAA to be in compliance with the requirements of 14 CFR part 150, may submit a NCP for FAA approval which sets forth the measures the operator has taken or proposes to take to reduce existing non-compatible uses and prevent the introduction of additional non-compatible uses.

The Port Authority of New York and New Jersey submitted to the FAA on June 15, 2022 a revised “With Program” 2021 NEM, descriptions and other documentation that were produced during the development of the “LaGuardia Airport Title 14 Code of Federal Regulations (CFR) Part 150 Noise Compatibility Program” (NCP Report), dated June 2022. The revised “With Program” 2021 NEM was submitted to show changes made to the LaGuardia Airport 2021 NEM previously accepted by the Federal Aviation Administration on May 15, 2017 (Noise Exposure Map Notice for LaGuardia Airport, New York City, New York, volume 82, Federal Register, pages 22714-5, May 15, 2017). The revisions to the previously approved 2021 NEM depict changes to noise contours from implementation of noise abatement measures contained within the associated NCP. It was requested that the FAA review this material as the NEM, as described in 49 U.S.C. 47503 of the Act, and that the noise mitigation measures, to be implemented jointly by the airport and surrounding communities, be approved as a NCP under 49 U.S.C. 47504.

The FAA has completed its review of the revised “With Program” 2021 NEM and related descriptions submitted by The Port Authority of New York and New Jersey. The documentation that constitutes the NEM as defined in 14 CFR 150.7 is the revised “With Program” 2021 Future Year NEM, Map 1 of 6, located in Appendix I-2 of the NCP Report. The NEMs contain current and forecast information including the depiction of the airport and its boundaries, the runway configurations, land uses such as single and two-family residential; multi-family residential; mixed residential and commercial; commercial and office; industrial and manufacturing; transportation, parking and utilities; unclassified; vacant land; open space, cemeteries, and outdoor recreation; places of worship; schools; historic structures; and day care/assisted living facilities and those areas within the Day Night Average Sound Level (DNL) 65, 70 and 75 decibel noise contours. The revised “With Program” 2021 NEM reflects the previous implementation of noise abatement measure 1 from the noise compatibility program. Accordingly, all estimates for the non-compatible land area and residential populations within these contours for the revised “With Program” 2021 noise exposure map are shown in Table 3-2 in Chapter 3 of the NCP Report. The estimates of land use within these contours for the revised “With Program” 2021 noise exposure map are shown in Table 2-4 of Chapter 2 of the NCP Report. Flight tracks are found in Maps 2 of 6 through 6 of 6 in Appendix I-2. The type and frequency of aircraft operations (including nighttime operations) are found in Chapter 2, Tables 2-1, 2-2, and 2-3.

The FAA has determined that these maps for LaGuardia Airport are in compliance with applicable requirements. This determination is effective on June 16, 2022. FAA's determination on an airport operator's NEMs is limited to a finding that the maps were developed in accordance with the procedures contained in appendix A of 14 CFR part 150. Such determination does not constitute approval of the applicant's data, information or plans, or constitute a commitment to approve a NCP or to fund the implementation of that program.

If questions arise concerning the precise relationship of specific properties to noise exposure contours depicted on a NEM submitted under 49 U.S.C. 47503, it should be noted that the FAA is not involved in any way in determining the relative locations of specific properties with regard to the depicted noise contours, or in interpreting the NEMs to resolve questions concerning, for example, which properties should be covered by the provisions of 49 U.S.C. 47506. These functions are inseparable from the ultimate land use control and planning responsibilities of local government. These local responsibilities are not changed in any way under 14 CFR part 150 or through FAA's review of NEMs. Therefore, the responsibility for the detailed overlaying of noise exposure contours onto the map depicting properties on the surface rests exclusively with the airport operator that submitted those maps, or with those public agencies and planning agencies with which consultation is required under 49 U.S.C. 47503. The FAA has relied on the certification by the airport operator, under 14 CFR 150.21, that the statutorily required consultation has been accomplished.

The FAA has formally received the NCP for LaGuardia Airport, also submitted on June 15, 2022. Preliminary review of the submitted material indicates that it conforms to the requirements for the submittal of NCPs, but that further review will be necessary prior to approval or disapproval of the program for LaGuardia Airport. The formal review period, limited by law to a maximum of 180 days, was initiated on July 6, 2022 and will be completed on or before January 2, 2023.

The FAA's detailed evaluation will be conducted under the provisions of 14 CFR 150.33. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. All comments, other than those properly addressed to local land use authorities, will be considered by the FAA to the extent practicable. Copies of the NEMs for LaGuardia Airport, the FAA's evaluation of the maps, and the proposed NCP for LaGuardia Airport are available for examination online at http://panynjpart150.com/LGA_FNCP.asp.

The Port Authority of New York and New Jersey has also made a hard copy of the document available for review at the LaGuardia Airport Community Information Center, 98-12 Astoria Boulevard, East Elmhurst, NY 11369. The document will be available for review from Monday to Thursday between the hours of 10 a.m. and 4 p.m. Interested parties should contact Raquel Moss at (718) 607-2297 to arrange for a review.

Questions regarding this notice may be directed to the individual named above under the heading, FOR FURTHER INFORMATION CONTACT.

Issued in Jamaica, NY, on July 6, 2022.
David A. Fish,
Director, Airports Division, Eastern Region.

[FR Doc. 2022-14694 Filed 7-8-22; 8:45 am]

BILLING CODE 4910-13-P